NUCLEAR REGULATORY COMMISSION

Request for a License To Import Radioactive Waste

Pursuant to 10 CFR 110.70 (b) “Public Notice of Receipt of an Application,” please take notice that the Nuclear Regulatory Commission (NRC) has received the following request for an import license. Copies of the request are available electronically through Agencywide Documents Access and Management System and can be accessed through the Public Electronic Reading Room link http://www.nrc.gov/reading-rm.html at the NRC Homepage.

A request for a hearing or petition for leave to intervene may be filed within thirty days after publication of this notice in the Federal Register (FR). Any request for hearing or petition for leave to intervene shall be served by the requester or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139; August 28, 2007. Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty days after publication of this notice in the FR to Office of the Secretary, U.S. Nuclear Regulatory Commission, Washington, DC 20555, Attention: Rulemaking and Adjudications.

The information concerning this import license application follows.

NRC Import License Application
Description of material | Name of applicant, date of application, date received, Application No., Docket No.: Material type | Name of applicant, date of application, date received, Application No., Docket No.: Total quantity | Name of applicant, date of application, date received, Application No., Docket No.: End use | Name of applicant, date of application, date received, Application No., Docket No.: Country from
Perma-Fix Northwest Richland, Inc. (PFNW), March 21, 2016, March 28, 2016, IW033, 11006229 | Radium luminised dials, made up of brass, aluminum, or mild steel case supporting a similar Metal dial face with moving indicators. Numbers and pointers on these dials and indicators are painted with a luminised radium paint | Up to a maximum total of 0.09 TBq of radium luminized dials | Import radioactive material for thermal processing, shredding, and grouting to provide a final waste form acceptable for land disposal in the originating country. The material will be returned to the United Kingdom under the associated export license (XW022) | United Kingdom.

For the Nuclear Regulatory Commission.
Dated this 15th day of April 2016 at Rockville, Maryland.
Geoffrey B. Miller,
Acting Director, Office of International Programs.

[FR Doc. 2016-09419 Filed 4-21-16; 8:45 am]

BILLING CODE 7590-01-P